DEPARTMENT OF HEALTH AND HUMAN SERVICES

National Institutes of Health

National Institute of Environmental Health Sciences; Amended Notice of Meeting

Notice is hereby given of a change in the meeting of the Environmental Health Sciences Review Committee, July 24, 2013, 08:00 a.m. to July 26, 2013, 02:00 p.m., Double Tree by Hilton, 4810 Page Creek Lane, Ball Room, Durham, NC, 27703 which was published in the Federal Register on July 02, 2013, 2013-15770.

The date of this meeting changed from July 24-26, 2013 to September 18-19, 2013. The meeting is closed to the public.

Dated: July 31, 2013.
Carolyn Baum,
Program Analyst, Office of Federal Advisory Committee Policy.

[FR Doc. 2013-18895 Filed 8-5-13; 8:45 am]

BILLING CODE 4140-01-P